DEPARTMENT OF DEFENSE

Office of the Secretary

[Transmittal No. 25-09]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-09, Policy Justification, and Sensitivity of Technology.

Dated: January 13, 2026.
Stephanie J. Bost,
Alternate OSD Federal Register Liaison Officer, Department of Defense.

BILLING CODE 6001-FR-P

BILLING CODE 6001-FR-C

Transmittal No. 25-09

Notice of Proposed Issuance of Letter of Offer Pursuant to Section 36(b)(1) of the Arms Export Control Act, as amended

(i) Prospective Purchaser: Government of Australia

(ii) Total Estimated Value:

Major Defense Equipment * | $81.0 million
Other | $10.2 million
TOTAL | $91.2 million

(iii) Description and Quantity or Quantities of Articles or Services under Consideration for Purchase:

Major Defense Equipment (MDE):

Fifty-four (54) Guided Multiple Launch Rocket System-Alternate Warhead (GMLRS-AW) rounds

Non-Major Defense Equipment:

The following non-MDE items will also be included: telemetry kits; engineering services; technical assistance; and other related logistics and program support.

(iv) Military Department: Army (AT-B-UOK)

(v) Prior Related Cases, if any: AT-B-UOJ

(vi) Sales Commission, Fee, etc., Paid, Offered, or Agreed to be Paid: None known at this time

(vii) Sensitivity of Technology Contained in the Defense Article or Defense Services Proposed to be Sold: See Attached Annex

(viii) Date Report Delivered to Congress: March 10, 2025

* as defined in Section 47(6) of the Arms Export Control Act.

POLICY JUSTIFICATION

Australia—Guided Multiple Launch Rocket System-Alternate Warhead Rounds

The Government of Australia has requested to buy fifty-four (54) Guided Multiple Launch Rocket System-Alternate Warhead (GMLRS-AW) rounds. The following non-MDE items will also be included: telemetry kits; engineering services; technical assistance; and other related logistics and program support. The estimated total cost is $91.2 million.

This proposed sale will support the foreign policy and national security objectives of the United States (U.S.) Australia is one of our most important allies in the Western Pacific. The strategic location of this political and economic power contributes significantly to ensuring peace and economic stability in the Western Pacific. It is vital to the U.S. national interest to assist our ally in developing and maintaining a strong and ready self-defense capability.

The proposed sale will enhance Australia's capability to meet current and future threats by increasing its capability to deter adversaries. The proposed sale will support its goal of improving national and territorial defense, interoperability with U.S. forces, and working to uplift industry as a new source of supply. Australia will have no difficulty absorbing this equipment and services into its armed forces.

The proposed sale of this equipment and support will not alter the basic military balance in the region.

The principal contractors will be Lockheed Martin, located in Grand Prairie, TX, and Lockheed Martin, Australia. At this time, the U.S. Government is not aware of any offset agreement proposed in connection with this potential sale. Any offset agreement will be defined in negotiations between the purchaser and the contractor.

Implementation of this proposed sale will not require the assignment of any additional U.S. Government or contractor representatives to Australia.

There will be no adverse impact on U.S. defense readiness as a result of this proposed sale.

Transmittal No. 25-09

Notice of Proposed Issuance of Letter of Offer Pursuant to Section 36(b)(1) of the Arms Export Control Act

Annex

Item No. vii

(vii) Sensitivity of Technology:

1. The M30A2 Guided Multiple Launch Rocket System-Alternate Warhead (GMLRS-AW) is a Convention on Cluster Munitions treaty compliant weapon with a 200-pound fragmentation warhead of pre-formed tungsten penetrators which is optimized for effectiveness against large area and imprecisely located targets. The munition has a Global Positioning System/Precise Positioning System (GPS/PPS) aided inertial guidance and control system, a fuzing mechanism, a multi-option height of burst capability, and an effective range of 15-70 kilometers.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Australia can provide substantially the same degree of protection for the sensitive technology being released as the U.S. Government. This proposed sale is necessary in furtherance of the U.S. foreign policy and national security objectives outlined in the Policy Justification.

5. All defense articles and services listed in this transmittal have been authorized for release and export to the Government of Australia.

[FR Doc. 2026-00772 Filed 1-15-26; 8:45 am]

BILLING CODE 6001-FR-P